DEPARTMENT OF DEFENSE

Office of the Secretary

Availability of the Fiscal Year 2008 United States Transportation Command (USTRANSCOM) Services Contract Inventory

AGENCY: USTRANSCOM, DoD.

ACTION: Notice of availability.

SUMMARY: In accordance with section 2330a of Title 10 United States Code as amended by the National Defense Authorization Act for Fiscal Year 2008 (NDAA 08) Section 807, the USTRANSCOM Acquisition Director, in coordination with the Office of the Director, Defense Procurement and Acquisition Policy. Office of Strategic Sourcing (DPAP/SS) will make available to the public the first inventory of activities performed pursuant to contracts for services. The inventory will be published to the USTRANSCOM Web site at the following location: http://www.transcom.mil/Foia/readingFoia.action.

DATES: Inventory to be made publicly available within 30 days of publication of this notice.

ADDRESSES: Send written comments or suggestions concerning the inventory to Bill Rachal. Acquisition Directorate, Policy Branch (AQ-P), USTRANSCOM, 508 Scott Drive, Bldg. 1961, Scott AFB, IL 62225.

FOR FURTHER INFORMATION CONTACT: Bill Rachal, (618) 256-6257 or e-mail at: william.rachal@ustranscom.mil.

SUPPLEMENTARY INFORMATION: NDAA 08, Section 807 amends section 2330a of Title 10 United States Code to require annual inventories and reviews of activities performed on service contracts. The Deputy Under-Secretary of Defense (Acquisition and Technology) (DUSD (ATL)) transmitted the USTRANSCOM inventory to Congress on September 29, 2009.

The USTRANSCOM Deputy Director for Acquisition submitted the USTRANSCOM Fiscal Year 2008 Services Contract Inventory to the Office of the DPAP/SS on August 28, 2009. The inventory does not include contract numbers, contractor identification, or other proprietary or sensitive information as these data can be used to disclose a contractor's proprietary proposal information.

Dated: October 28, 2009.
Patricia L. Toppings,
OSD Federal Register Liaison Officer, Department of Defense.

[FR Doc. E9-26494 Filed 11-3-09; 8:45 am]

BILLING CODE 5001-06-P